DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection to gather data related to the use of agroforestry practices.

DATES: Comments on this notice must be received by December 9, 2024 to be assured of consideration.

ADDRESSES: You may submit comments, identified by docket number 0535-0273, by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336, South Building, 1400 Independence Avenue SW, Washington, DC 20250-2024.

• Hand Delivery/Courier: Hand deliver to: Richard Hopper, NASS Clearance Officer, U.S. Department of Agriculture, Room 5336, South Building, 1400 Independence Avenue SW, Washington, DC 20250-2024.

FOR FURTHER INFORMATION CONTACT: Joseph J. Prusacki, Associate Administrator, National Agricultural Statistics Service, U.S. Department of Agriculture, 202-720-2707. Copies of this information collection and related instructions can be obtained without charge from Richard Hopper, NASS—OMB Clearance Officer, at 202-720-2206 or at ombofficer@nass.usda.gov.

SUPPLEMENTARY INFORMATION:

Title: Cooperator Funded Chemical Use Surveys.

OMB Control Number: 0535-0273.

Expiration Date of Approval: May 31, 2025.

Type of Request: Intent to Seek Approval to Revise and Extend an Information Collection for a period of three years.

Abstract: The chemical use data collection activities in this clearance request would be conducted through cooperative agreements with State departments of agriculture, land-grant universities, or other organizations with which NASS has a Memorandum of Understanding (MOU). Previously, these collections were included in the Agricultural Resource Management and Chemical Use Surveys ICR (0535-0218). These chemical use surveys are being separated out to allow flexibility for survey changes and possible new surveys without affecting the surveys funded through USDA's Congressional appropriation.

Authority: These data will be collected under authority of 7 U.S.C. 2204(a). Individually identifiable data collected under this authority are governed by section 1770 of the Food Security Act of 1985 as amended, 7 U.S.C. 2276, which requires USDA to afford strict confidentiality to non-aggregated data provided by respondents. This Notice is submitted in accordance with the Paperwork Reduction Act of 1995 (Pub. L. 104-113, 44 U.S.C. 3501, et seq.) and Office of Management and Budget regulations at 5 CFR part 1320. All NASS employees and NASS contractors must also fully comply with all provisions of the Confidential Information Protection and Statistical Efficiency Act (CIPSEA) of 2018, title III of Public Law 115-435, codified in 44 U.S.C. ch. 35. CIPSEA supports NASS's pledge of confidentiality to all respondents and facilitates the agency's efforts to reduce burden by supporting statistical activities of collaborative agencies through designation of NASS agents, subject to the limitations and penalties described in CIPSEA.

Estimate of Burden: Public reporting burden for this collection of information varies for the surveys in this information collection request, but overall will average 35 minutes per response. NASS plans to mail out publicity materials with the questionnaires to inform respondents of the importance of this survey. NASS will also use mailing and internet data collection tools, followed up with phone and limited personal enumeration of non-respondents to increase response rates and to minimize data collection costs.

Respondents: Farmers and Ranchers.

Estimated Number of Respondents: 19,500.

Estimated Total Annual Burden on Respondents: 11,400 hours.

Comments: Comments are invited on: (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, September 13, 2024.
Joseph J. Prusacki,
Associate Administrator.

[FR Doc. 2024-23452 Filed 10-9-24; 8:45 am]

BILLING CODE 3410-20-P